DEPARTMENT OF COMMERCE

National Oceanic and Atmospheric Administration

RIN 0648-XT88

Pacific Fishery Management Council; Public Meeting

AGENCY: National Marine Fisheries Service (NMFS), National Oceanic and Atmospheric Administration (NOAA), Commerce.

ACTION: Notice of public meeting.

SUMMARY: The Pacific Fishery Management Council (Pacific Council) will hold a joint meeting of subcommittees from a number of its advisory bodies, as follows: Enforcement Consultants, Groundfish Advisory Subpanel, Groundfish Management Team, and the Ad Hoc Trawl Individual Quota Committee. The meeting is open to the public.

DATES: The joint subcommittee meeting will be held Thursday, February 4, 2010, from 8 a.m. until business for the day is completed and Friday, February 5, 2010 from 8 a.m. until no later than 3 p.m.

ADDRESSES: The joint subcommittee meeting will be held at the Watertown Hotel, 4242 Roosevelt Way NE, Seattle WA 98105; telephone: (206) 826-4242.

Council address: Pacific Fishery Management Council, 7700 NE Ambassador Place, Suite 101, Portland, OR 97220-1384.

FOR FURTHER INFORMATION CONTACT: Mr. Jim Seger, Staff Officer; telephone: (503) 820-2280.

SUPPLEMENTARY INFORMATION: The purpose of the joint subcommittee meeting is to orient members representing the various advisory panels, and Pacific Council members who will be in attendance, on the organization and content of a preliminary draft of the Amendment 20 (Trawl Rationalization) regulations. This orientation will facilitate Pacific Council review of the draft regulations at the March 2010 Pacific Council meeting. Participants may also provide drafters of the regulations with some initial reactions which the drafters may take into account as they complete the draft package for Pacific Council review.

Although non-emergency issues not contained in the meeting agenda may come before the joint subcommittee for discussion, those issues may not be the subject of formal joint subcommittee action during this meeting. Joint subcommittee action will be restricted to those issues specifically listed in this notice and any issues arising after publication of this notice that require emergency action under Section 305(a) of the Magnuson-Stevens Fishery Conservation and Management Act, provided the public has been notified of the joint subcommittee's intent to take final action to address the emergency.

Special Accommodations

This meeting is physically accessible to people with disabilities. Requests for sign language interpretation or other auxiliary aids should be directed to Ms. Carolyn Porter at (503) 820-2280 at least 5 days prior to the meeting date.

Dated: January 14, 2010.
Tracey L. Thompson,
Acting Director, Office of Sustainable Fisheries, National Marine Fisheries Service.

[FR Doc. 2010-953 Filed 1-19-10; 8:45 am]

BILLING CODE 3510-22-S